DEPARTMENT OF ENERGY

Federal Energy Regulatory Commission

Combined Notice Of Filings # 1

December 18, 2006.

Take notice that the Commission received the following exempt wholesale generator filings:

Docket Numbers: EG07-20-000.

Applicants: Wayzata California Power Holdings, LLC.

Description: Wayzata California Power Holdings submits a Notice of Self-Certification of Exempt Wholesale Generator Status.

Filed Date: 12/13/2006.

Accession Number: 20061213-5063.

Comment Date: 5 p.m. Eastern Time on Wednesday, January 3, 2007.

Take notice that the Commission received the following electric rate filings:

Docket Numbers: ER00-3562-004.

Applicants: Calpine Energy Services L.P.

Description: Calpine Energy Services, LP submits revised affidavit of Julie R Solomon and certain revised exhibit sheets in support of the 10/30/06 triennial market analysis.

Filed Date: 12/13/2006.

Accession Number: 20061215-0105.

Comment Date: 5 p.m. Eastern Time on Tuesday, December 26, 2006.

Docket Numbers: ER03-1316-003.

Applicants: Palama, LLC.

Description: Palama, LLC submits its triennial updated market analysis.

Filed Date: 12/12/2006.

Accession Number: 20061218-0125.

Comment Date: 5 p.m. Eastern Time on Tuesday, January 2, 2007.

Docket Numbers: ER05-6-091; EL04-135-094; EL02-111-111; EL03-212-107.

Applicants: Exelon Corporation.

Description: Exelon Corporation submits a compliance Electric Refund Report pursuant to the Commission's 10/27/06 Order.

Filed Date: 12/13/2006.

Accession Number: 20061213-5060.

Comment Date: 5 p.m. Eastern Time on Wednesday, January 3, 2007.

Docket Numbers: ER06-133-002.

Applicants: PJM Interconnection, LLC.

Description: PJM Interconnection LLC submits a compliance Electric Refund Report pursuant to the Commission's 11/3/06 Order.

Filed Date: 12/12/2006.

Accession Number: 20061212-5026.

Comment Date: 5 p.m. Eastern Time on Tuesday, January 2, 2007.

Docket Numbers: ER06-451-014.

Applicants: Southwest Power Pool, Inc.

Description: Southwest Power Pool, Inc submits Exhibit I and II clean and redlined versions of the correct Substitute Third Revised Sheet 627 et al. to FERC Electric Tariff, Fourth Revised Volume 1.

Filed Date: 12/14/2006.

Accession Number: 20061218-0141.

Comment Date: 5 p.m. Eastern Time on Thursday, January 4, 2007.

Docket Numbers: ER06-826-004.

Applicants: PJM Interconnection, LLC.

Description: PJM Interconnection, LLC submits its First Revised Sheet 448B to its FERC Electric Tariff, Sixth revised Volume 1.

Filed Date: 12/13/2006.

Accession Number: 20061218-0124.

Comment Date: 5 p.m. Eastern Time on Wednesday, January 3, 2007.

Docket Numbers: ER07-16-001.

Applicants: Pacific Gas and Electric Company.

Description: Pacific Gas and Electric Company submits First Revised Thirteenth Revised Sheet 58 to its FERC Electric Tariff, Sixth Revised Volume 1.

Filed Date: 12/13/2006.

Accession Number: 20061218-0123.

Comment Date: 5 p.m. Eastern Time on Wednesday, January 3, 2007.

Docket Numbers: ER07-174-002.

Applicants: Osceola Windpower, LLC.

Description: Osceola Windpower, LLC submits an amendment to its Market-Based Tariff effective 1/2/07.

Filed Date: 12/08/2006.

Accession Number: 20061212-0101.

Comment Date: 5 p.m. Eastern Time on Friday, December 29, 2006.

Docket Numbers: ER07-212-001; ER01-1558-004.

Applicants: Wayzata California Power Holdings, LLC; NEO California Power LLC.

Description: Wayzata California Power Holdings, LLC and NEO California Power LLC submit their proposed FERC Electric Rate Schedule 1.

Filed Date: 12/14/2006.

Accession Number: 20061218-0119.

Comment Date: 5 p.m. Eastern Time on Tuesday, December 26, 2006.

Docket Numbers: ER07-264-001.

Applicants: MMC Mid-Sun, LLC.

Description: MMC Mid-Sun, LLC submits an errata to the application for market based rates authority.

Filed Date: 12/01/2006.

Accession Number: 20061215-0272.

Comment Date: 5 p.m. Eastern Time on Friday, December 22, 2006.

Docket Numbers: ER07-281-000.

Applicants: MidAmerican Energy Company.

Description: MidAmerican Energy Company submits an amended Network Integration Transmission Service Agreement and an amended Interconnection and Network Operating Agreement w/Indianola Municipal Utilities.

Filed Date: 12/01/2006.

Accession Number: 20061205-0022.

Comment Date: 5 p.m. Eastern Time on Friday, December 22, 2006.

Docket Numbers: ER07-318-000.

Applicants: Niagara Mohawk Power Corporation.

Description: Niagara Mohawk Power Corporation submits an Original Service Agreement 923 with New Athens Generating Company, LLC.

Filed Date: 12/13/2006.

Accession Number: 20061218-0140.

Comment Date: 5 p.m. Eastern Time on Wednesday, January 3, 2007.

Docket Numbers: ER07-319-000.

Applicants: Southwest Power Pool, Inc.

Description: Southwest Power Pool, Inc submits its compliance filing of revisions to its Open Access Transmission Tariff to modify real-time energy imbalance market pursuant to FERC's order issued on 10/31/06, effective 2/1/07.

Filed Date: 12/12/2006.

Accession Number: 20061218-0139.

Comment Date: 5 p.m. Eastern Time on Tuesday, January 2, 2007.

Docket Numbers: ER07-322-000.

Applicants: Midwest Independent Transmission System Operator, Inc.

Description: Midwest Independent Transmission System Operator, Inc submits a Facilities Construction Agreement with Constellation Energy Commodities Group, Inc et al.Filed Date: 12/14/2006.

Accession Number: 20061218-0145.

Comment Date: 5 p.m. Eastern Time on Thursday, January 4, 2007

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-22203 Filed 12-27-06; 8:45 am]

BILLING CODE 6717-01-P